ENVIRONMENTAL PROTECTION AGENCY

40 CFR Parts 52 and 81

[EPA-R08-OAR-2019-0276; FRL-10004-94-Region 8]

Approval and Promulgation of Implementation Plans; State of Utah; Salt Lake County, Utah County, and Ogden City PM10 Redesignation to Attainment, Designation of Areas for Air Quality Planning Purposes and State Implementation Plan Revisions

AGENCY: Environmental Protection Agency (EPA).

ACTION: Final rule.

SUMMARY: The Environmental Protection Agency (EPA) is approving the State Implementation Plan (SIP) revisions submitted by the State of Utah on January 4, 2016, which include revisions to Utah's Division of Administrative Rule (DAR) R307-110-10 and maintenance plans for the Salt Lake County, Utah County, and Ogden City nonattainment areas (NAAs) for particulate matter with an aerodynamic diameter less than or equal to a nominal 10 microns (PM10), and on March 6, 2019, which include PM10 redesignation requests and supplemental information for Salt Lake County, Utah County and Ogden City. These submittals demonstrated that the Salt Lake County, Utah County and Ogden City areas have attained the PM10 National Ambient Air Quality Standards (NAAQS), request redesignation to attainment, and include maintenance plans for the areas demonstrating attainment for fifteen years. Also, the EPA is approving Utah's February 27, 2017 submittal, which includes rule revisions to address our October 19, 2016 conditional approval of Utah's DAR R307-302 revisions that were submitted May 9, 2013, May 20, 2014 and September 8, 2015. Additionally, the EPA is approving SIP revisions submitted by the State of Utah on February 15, 2019, with additional non-substantive changes submitted on July 1, 2019, August 20, 2019, and October 15, 2019, which includes revisions that are located in DAR R307-110-17 and SIP Subsections IX.H.1-2. We are also approving the transportation conformity motor vehicle emissions budgets (MVEB), for each of the three maintenance areas, as described in our proposed rule. The EPA is taking this action pursuant to the Clean Air Act (CAA or the Act).

DATES: This rule is effective on March 27, 2020.

ADDRESSES: The EPA has established a docket for this action under Docket ID No. EPA-R08-OAR-2019-0276. All documents in the docket are listed on the http://www.regulations.gov website. Although listed in the index, some information is not publicly available, e.g., CBI or other information whose disclosure is restricted by statute. Certain other material, such as copyrighted material, is not placed on the internet and will be publicly available only in hard copy form. Publicly available docket materials are available through http://www.regulations.gov, or please contact the person identified in the FOR FURTHER INFORMATION CONTACT section for additional availability information.

FOR FURTHER INFORMATION CONTACT: Crystal Ostigaard, Air and Radiation Division, EPA, Region 8, Mailcode 8ARD-IO, 1595 Wynkoop Street, Denver, Colorado, 80202-1129, (303) 312-6602, ostigaard.crystal@epa.gov.

SUPPLEMENTARY INFORMATION: Throughout this document “we,” “us,” and “our” means the EPA.

I. Background

On November 21, 2019 (84 FR 64245), the EPA proposed to approve the Governor of Utah's January 4, 2016 submission, that contains revisions to R307-110-10 (Control Measures for Area and Point Sources, Part A, Fine Particulate Matter) and the PM10 maintenance plans for Salt Lake County, Utah County and Ogden City PM10 NAAs. We also proposed to approve the Governor of Utah's March 6, 2019 submittal, that contains the redesignation requests for the Salt Lake County, Utah County and Ogden City PM10 NAAs to attainment for the 1987 p.m.10 standards and provided supplemental information. We used the 2016-2018 ambient air quality data from Salt Lake County, Utah County and Ogden City NAAs as the basis for our decision. In addition, we proposed approval of the emissions inventories found within the maintenance plans to cover the one element of the Moderate PM10 nonattainment SIP that was not suspended with the EPA's January 7, 2013 clean data determination (CDD) for the Ogden City NAA.

We also proposed approval of R307-110-17 (Control Measures for Area and Point Sources, Part H, Emission Limits and Operating Practices) and revisions for Section IX.H.1 and 2 that were submitted on February 15, 2019, and with non-substantive changes submitted on July 1, 2019, August 20, 2019 and October 15, 2019. Additionally, we proposed approval of the revisions in R307-302 (Solid Fuel Burning Devices) for incorporation into the Utah SIP as submitted by the State of Utah on May 9, 2013, May 20, 2014, September 8, 2015 and February 27, 2017.

II. Response to Comments

The EPA received five comments on the proposed action and the comments can be found in the docket: EPA-R08-OAR-2019-0276. The Center for Biological Diversity (CBD) and Western Resource Advocates (WRA) submitted a request to extend the comment period to January 22, 2020. The EPA carefully reviewed this request and maintained the original December 23, 2019 deadline for submitting comments. The CBD and WRA did not submit any additional comments by the December 23, 2019 deadline.

The other four comments included two anonymous comments in agreement with the EPA's proposed rule. Another comment was from the Utah Petroleum Association in agreement with the EPA's proposed rule. Finally, the last comment was anonymous but only contained a partial docket number and other random information. The EPA reviewed this comment and has determined that it falls outside the scope of our proposed action and fails to identify any material issue necessitating a response.

III. Final Action

No comments were submitted that changed our assessment of our proposed action. For the reasons stated in our proposed rule, we are finalizing approval of the Governor of Utah's submittal of January 4, 2016, that contains revisions to R307-110-10 and the PM10 maintenance plans for Salt Lake County, Utah County and Ogden City PM10 NAAs. We are finalizing approval of the Governor of Utah's submittal of March 6, 2019, that contains the redesignation requests for the Salt Lake County, Utah County and Ogden City PM10 NAAs to attainment for the 1987 p.m.10 standards and provided supplemental information. We used the 2016-2018 ambient air quality data from Salt Lake County, Utah County and Ogden City NAAs as the basis for our decision. In addition, we are finalizing approval of the emissions inventories found within the maintenance plans to cover the one element of the Moderate PM10 nonattainment SIP that was not suspended with the CDD for the Ogden City NAA.

We are finalizing this redesignation request, the maintenance plans, and R307-110-10 revisions because the Utah Division of Air Quality (UDAQ) has adequately addressed all of the requirements of the Act for redesignation to attainment applicable to the Salt Lake County, Utah County and Ogden City PM10 NAAs. Upon the effective date of this final rule, the Salt Lake County, Utah County and Ogden City areas designation status under 40 CFR part 81 will be revised to attainment.

We are also finalizing approval of R307-110-17 and revisions for Section IX.H.1 and 2 that were submitted on February 15, 2019, and with non-substantive changes submitted on July 1, 2019, August 20, 2019 and on October 15, 2019. Additionally, we are finalizing approval of the revisions in R307-302 for incorporation into the Utah SIP as submitted by the State of Utah on May 9, 2013, May 20, 2014, September 8, 2015 and February 27, 2017. This final rule will complete the EPA's October 19, 2016 (81 FR 71988) conditional approval action on the May 9, 2013, May 20, 2014 and September 8, 2015 submittals for R307-302 from UDAQ. We are also approving the transportation conformity MVEBs, for each of the three maintenance areas, as described in our proposed rule.

IV. Incorporation by Reference

In this document, the EPA is finalizing regulatory text that includes incorporation by reference. In accordance with requirements of 1 CFR 51.5, the EPA is finalizing the incorporation by reference of R307-110-10; R307-110-17; R307-302; Section IX.H.1 and 2; maintenance plans for Salt Lake County, Utah County and Ogden City PM10 NAAs; and the Governor of Utah's redesignation requests for Salt Lake County, Utah County and Ogden City PM10 NAAs to attainment. The EPA has made, and will continue to make, these materials generally available through www.regulations.gov and at the EPA Region 8 Office (please contact the person identified in the FOR FURTHER INFORMATION CONTACT section of this preamble for more information). Therefore, these materials have been approved by the EPA for inclusion in the SIP, have been incorporated by reference by the EPA into that plan, are fully federally enforceable under sections 110 and 113 of the CAA as of the effective date of the final rulemaking of the EPA's approval, and will be incorporated by reference in the next update to the SIP compilation.¹

¹ 62 FR 27968 (May 22, 1997).

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 27, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects

40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

40 CFR Part 81

Environmental protection, Air pollution control, National parks, Wilderness areas.

Dated: February 10, 2020.
Gregory Sopkin,
Regional Administrator, Region 8.

40 CFR parts 52 and 81 are amended as follows:

PART 52—APPROVAL AND PROMULGATION OF IMPLEMENTATION PLANS

1. The authority citation for part 52 continues to read as follows:

Authority: 42 U.S.C. 7401 et seq.

Subpart TT—Utah

2. In § 52.2320:

a. In the table in paragraph (c):

i. Revise the entries “R307-110-10” and “R307-110-17”.

ii. Revise the center heading for “R307-302” and entries “R307-302-01”, “R307-302-02”, “R307-302-03”, “R307-302-04”, “R307-302-05”, and “R307-302-06”.

b. In the table in paragraph (e):

i. Revise the entries “Section IX.H.1. General Requirements: Control Measures for Area and Point Sources, Emission Limits and Operating Practices, PM10 Requirements” and “Section IX.H.2. Source Specific Emission Limitations in Salt Lake County PM10 Nonattainment/Maintenance Area”.

ii. Remove the entries for “Salt Lake County Particulate Matter (PM-10) Attainment Plan Summary” and “Utah County Particulate Matter (PM-10) Attainment Plan Summary” and add in their places the entries “Salt Lake County Particulate Matter (PM10) Attainment Plan Summary” and “Utah County Particulate Matter (PM10) Attainment Plan Summary”, respectively.

iii. Add the entry “Ogden City Particulate Matter (PM10) Attainment Plan Summary” at the end of the table.

The revisions and additions read as follows:

§ 52.2320 Identification of plan.

* * * * *

(c) * * *

Rule No. | Rule title | State effective date | Final rule citation, date | Comments
* * * * * * *
R307-110. General Requirements: State Implementation Plan
* * * * * * *
R307-110-10 | Section IX. Control Measures for Area and Point Sources, Part A, Fine Particulate Matter | 12/3/2015 | [insert Federal Register citation], 2/26/2020
* * * * * * *
R307-110-17 | Section IX, Control Measures for Area and Point Sources, Part H, Emission Limits | 1/3/2019 | [insert Federal Register citation], 2/26/2020 | Except for Section IX.H.21.e. which is conditionally approved through one year 7/5/16, IX.H.21.g., Sections of IX.H.21 that reference and apply to the source specific emission limitations disapproved in Section IX.H.22, and Sections IX.H.22.a.ii-iii, IX.H.22.b.ii, and IX.H.22.c.
* * * * * * *
R307-302. Solid Fuel Burning Devices
R307-302-1 | Purpose and Definitions | 2/1/2017 | [insert Federal Register citation], 2/26/2020
R307-302-2 | Applicability | 2/1/2017 | [insert Federal Register citation], 2/26/2020
R307-302-3 | No-Burn Periods for Particulates | 2/1/2017 | [insert Federal Register citation], 2/26/2020
R307-302-4 | No-Burn Periods for Carbon Monoxide | 2/1/2017 | [insert Federal Register citation], 2/26/2020
R307-302-5 | Opacity and Prohibited Fuels for Heating Appliances | 2/1/2017 | [insert Federal Register citation], 2/26/2020
R307-302-6 | Prohibition | 2/1/2017 | [insert Federal Register citation], 2/26/2020
* * * * * * *

* * * * *

(e) * * *

Rule title | State effective date | Final rule citation, date | Comments
* * * * * * *
IX. Control Measures for Area and Point Sources
* * * * * * *
Section IX.H.1. General Requirements: Control Measures for Area and Point Sources, Emission Limits and Operating Practices, PM10 Requirements | 1/3/2019 | [insert Federal Register citation], 2/26/2020
Section IX.H.2. Source Specific Emission Limitations in Salt Lake County PM10 Nonattainment/Maintenance Area | 1/3/2019 | [insert Federal Register citation], 2/26/2020
* * * * * * *
Maintenance Plans
* * * * * * *
Salt Lake County Particulate Matter (PM10) Attainment Plan Summary | 12/3/2015 | [insert Federal Register citation], 2/26/2020
Utah County Particulate Matter (PM10) Attainment Plan Summary | 12/3/2015 | [insert Federal Register citation], 2/26/2020
Ogden City Particulate Matter (PM10) Attainment Plan Summary | 12/3/2015 | [insert Federal Register citation], 2/26/2020

PART 81—DESIGNATION OF AREAS FOR AIR QUALITY PLANNING PURPOSES

3. The authority citation for part 81 continues to read as follows:

Authority: 42 U.S.C. 7401, et seq.

Subpart C—Section 107 Attainment Status Designations

4. In § 81.345, the table titled “UTAH—PM-10” is amended by revising the entries “Salt Lake County”, “Utah County”, and “Ogden Area Weber County (part) City of Ogden” to read as follows:

§ 81.345 Utah.

* * * * *

UTAH—PM-10

Designated area | Designation: Date | Designation: Type | Classification: Date | Classification: Type
Salt Lake County | 3/27/2020 | Attainment
Utah County | 3/27/2020 | Attainment
Ogden Area Weber County (part) City of Ogden | 3/27/2020 | Attainment
* * * * * * *

* * * * *

[FR Doc. 2020-03022 Filed 2-25-20; 8:45 am]

BILLING CODE 6560-50-P